LEGAL SERVICES CORPORATION

Sunshine Act Meetings of the Board of Directors and Four of the Board's Committees

Times and Dates: The Legal Services Corporation Board of Directors and four of its Committees will meet April 28 and 29, 2006 in the order set forth in the following schedule, with each subsequent meeting commencing shortly after adjournment of the prior meeting.

Meeting Schedule
| Time
Friday, April 28, 2006:
1. Provision for the Delivery of Legal Services Committee (“Provisions Committee”) | 1:30 p.m.
2. Operations & Regulations Committee
Saturday, April 29, 2006:
1. Performance Reviews Committee | 8:30 a.m.
2. Finance Committee
3. Board of Directors

Location: The Chase Park Plaza Hotel, 212-232 N. Kingshighway Boulevard, St. Louis, Missouri.

Status of Meetings: Open, except as noted below.

• Status: April 29, 2006 Performance Reviews Committee Meeting—Closed. The meeting of the Performance Reviews Committee may be closed to the public pursuant to a vote of the Board of Directors authorizing the Committee to meet in executive session to consider and act on the annual performance review of the Inspector General. The closing will be authorized by the relevant provision(s) of the Government in the Sunshine Act [5 U.S.C. 552b(c)(6)] and the Legal Services Corporation's corresponding regulation, 45 CFR 1622.5(e). A copy of the General Counsel's Certification that the closing is authorized by law will be available upon request.

• Status: April 29, 2006 Board of Directors Meeting—Open, except that a portion of the meeting of the Board of Directors may be closed to the public pursuant to a vote of the Board of Directors to hold an executive session. At the closed session, the Board will consider and may act on the General Counsel's report on litigation to which the Corporation is or may become a party, discuss internal procedures with and receive briefings on investigations from the IG,¹ and consider and may act on the report of the Annual Performance Reviews Committee on the performance review of the Corporation's President and IG. The closing is authorized by the relevant provisions of the Government in the Sunshine Act [5 U.S.C. 552b(c)(10), 552b(c)(2) and 552b(c)(6)] and LSC's implementing regulation 45 CFR 1622.5(h), 1622.5(a) and 1622.5(e). A copy of the General Counsel's Certification that the closing is authorized by law will be available upon request.

¹ Any portion of the closed session consisting solely of staff briefings does not fall within the Sunshine Act's definition of the term “meeting” and, therefore, the requirements of the Sunshine Act do not apply to such portion of the closed session. 5 U.S.C. 552(b)(a)(2) and (b). See also 45 CFR 1622.2 & 1622.3.

Matters To Be Considered:

Friday, April 28, 2006.

Provisions Committee

Agenda

Open Session

1. Approval of agenda

2. Approval of the Committee's meeting minutes of January 27, 2006

3. Staff report on LSC's PAI strategy development

4. Panel discussion on Private Attorney Involvement in LSC-funded programs Moderator: Karen Sarjeant, LSC Vice President for Programs and Compliance

• The panel will continue the discussion of private attorney involvement efforts and the opportunities and challenges encountered by legal services offices in effectively utilizing private attorneys in their legal services delivery to eligible clients. Panelists will share their experiences in using Judicare and pro bono models with smaller firms and solo practitioners to deliver legal services in urban and rural service areas. There will be a discussion about the various approaches and models used, and identification of some of the issues, challenges and opportunities of participating in various private attorney involvement models. Panelists will share their thoughts on what can be done to better facilitate and encourage private attorney involvement in LSC-funded programs.

• Panel Members:

• Daniel K. Glazier—Executive Director, Legal Services of Eastern Missouri, St. Louis, Missouri

• Sara E. Strattan—Executive Director, Community Legal Aid Services, Akron, Ohio

• Adam Burkemper—Burkemper Law Firm LLC, St. Louis, Missouri

• Thomas Glick—Glick Finley LLC, St. Louis, Missouri

5. Status report by Sarah Singleton, Chairman of the ABA Task Force revising the ABA Standards for Providers of Civil Legal Services to the Poor, on the current status of the revisions

6. Staff update on revision of LSC Performance Criteria

7. Staff update on LSC Leadership Mentoring Pilot Project

8. Public comment

9. Consider and act on other business

10. Consider and act on adjournment of meeting

Operations & Regulations Committee

Agenda

Open Session

1. Approval of agenda

2. Approval of the Open Session minutes of the Committee's January 27, 2006 meeting

3. Approval of the Closed Session minutes of the Committee's January 28, 2006 meeting

4. Consider and act on Draft Notice of Proposed Rulemaking to revise 45 CFR Part 1624, Prohibition Against Discrimination on the Basis of Handicap

a. Staff report

b. Public comment

5. Consider and act on rulemaking to revise 45 CFR part 1621, Client Grievance Procedure

a. Staff report

b. Public comment

6. Consideration of other regulations to review

7. Staff report on dormant class action cases

8. Consider and act on other business

9. Other public comment

10. Consider and act on adjournment of meeting

Saturday, April 29, 2006.

Performance Reviews Committee

Agenda

Closed Session

1. Approval of agenda

2. Consider and act on annual performance review of LSC Inspector General

• Meet with Kirt West

3. Consider and act on other business

4. Consider and act on adjournment of meeting

Finance Committee

Agenda

Open Session

1. Approval of agenda

2. Approval of the minutes of the Committee's meeting of January 27, 2006

3. Presentation by the Inspector General of the Fiscal Year 2005 Annual Financial Audit

4. Presentation on LSC's Financial Reports for the first six months of FY 2006

5. Consider and act on revisions to the Consolidated Operating Budget for FY 2006 and recommend Resolution 2006-006 to the full Board

6. Report on FY 2007 appropriations process

7. Consider and act on change of address notification to Diversified Investment Advisers and recommend Resolution 2006-007 to the full Board

8. Consider and act on other business

9. Public comment

10. Consider and act on adjournment of meeting

Board of Directors

Agenda

Open Session

1. Approval of agenda

2. Approval of minutes of the Board's meeting of January 28, 2006

3. Approval of minutes of the Executive Session of the Board's meeting of January 28, 2006

4. Chairman's Report

5. Consider and act on Resolution 2006-004 recognizing Board service of Florentino “Lico” Subia

6. Consider and act on Resolution 2006-005 recognizing Board service of Ernestine Watlington

7. Members' Reports

8. President's Report

9. Inspector General's Report

10. Consider and act on the report of the Committee on Provision for the Delivery of Legal Services

11. Consider and act on the report of the Finance Committee

12. Consider and act on the report of the Operations & Regulations Committee

13. Consider and act on Board's meeting schedule for calendar year 2007

14. Consider and act on other business

15. Public comment

16. Consider and act on whether to authorize an executive session of the Board to address items listed below under Closed Session

Closed Session

17. Consider and act on the report of the Performance Reviews Committee

18. Consider and act on General Counsel's report on potential and pending litigation involving LSC

19. IG briefing on improvements in corporate governance

20. IG briefing on congressional investigation

21. IG briefing on other investigations

22. Discussion of internal procedures with OIG

23. Consider and act on motion to adjourn meeting

Contact Person For Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 19, 2006.
Victor M. Fortuno,
Vice President for Legal Affairs, General Counsel & Corporate Secretary.

[FR Doc. 06-3888 Filed 4-20-06; 9:04 am]

BILLING CODE 7050-01-P